DEPARTMENT OF COMMERCE

International Trade Administration

Agency Information Collection Activities; Submission to the Office of Management and Budget (OMB) for Review and Approval; Comment Request; Survey of International Air Travelers

AGENCY: International Trade Administration, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before July 22, 2024.

ADDRESSES: Interested persons are invited to submit written comments by mail to Richard Champley, Program Manager, and Contracting Officer Representative (COR), ITA, richard.champley@trade.gov, (202) 482-4753 or PRA@trade.gov. Please reference OMB Control Number 0625-0227 in the subject line of your comments. Do not submit Confidential Business Information or otherwise sensitive or protected information.

FOR FURTHER INFORMATION CONTACT: Requests for additional information or specific questions related to collection activities should be directed to Richard Champley, Program Manager, and Contracting Officer Representative (COR), ITA National Travel & Tourism Office (NTTO). Contact information: richard.champley@trade.gov (202) 482-4753).

SUPPLEMENTARY INFORMATION:

I. Abstract

The “Survey of International Air Travelers” (Survey/SIAT) program, administered by the National Travel and Tourism Office (NTTO) of the International Trade Administration provides source data required to: (1) estimate international travel and passenger fare exports, imports and the trade balance for the United States, (2) comply with the U.S. Travel Promotion Act of 2009 (Pub. L. 111-145), collect a one percent sample of inbound travelers, analyze and report information to government and industry stakeholders, and support the increase of U.S. exports, (3) to comply with the 1961, 1981, and 1996 travel and tourism related acts to collect and publish comprehensive international travel and tourism, statistics and other marketing information, and (4) support the continuation of the Travel & Tourism Satellite Accounts for the United States, which provide the only spending and employment figures for the industry, and (5) to support the goals of objectives of the 2022 National Travel & Tourism Strategy.

The Survey program contains the core data that is collected, analyzed, and communicated by NTTO with other government agencies, associations and businesses that share the same objective of increasing U.S. international travel exports. The Survey assists NTTO in assessing the economic impact of international travel on state and local economies, providing visitation estimates, key market intelligence, and identifying traveler and trip characteristics. The U.S. Department of Commerce assists travel industry enterprises to increase international travel and passenger fare exports and imports for the country as well as travel on U.S. and foreign carriers. The Survey program provides the only available estimates of nonresident visitation to the states and cities within the United States, as well as U.S. resident travel abroad.

A revised (major) survey instrument (questionnaire) (English version plus its translations into eleven foreign languages) was implemented in 2012. It reflects input from over 70 respondents, including: Travel Industry (airlines, travel associations, destinations, lodging); Consultants; Financial Firms; Educational Institutions; and other U.S. Government Agencies. A minor (`non-substantive') change was implemented in 2016 to better reflect the visitor's entry experience into the United States. This was requested by the United States Travel and Tourism Advisory Board to measure compliance with U.S. National Goals.

The 2012 and 2016 revised Survey questionnaire reflect changes in various questions relating to: trip purpose; payment methods; booking/information sources; additional package components, health care/vaccinations, travel insurance information, additional transportation utilized, assessment of the visitor's entry and overall experience; and intentions for further travel to the United States; and ethnicity/race. Several questions from the pre-existing 1996 questionnaire were eliminated to further streamline the survey.

Changes envisioned are: (1) enhanced testing of the QR code/Mobile phone approach to leverage international airlines' growing capability of offering international Wi-Fi to its on-board passengers; (2) further evaluation of a `short form' version of the paper questionnaire (23 of the existing 33 questions) to reduce burden and improve passenger response rates when time is limited in the boarding area or in markets that tend to be less responsive; (3) evaluation of `incentives' that could be utilized to encourage an increased number of passenger responses. (4) Recommendations from the United States. Travel & Tourism Advisory Board (TTAB).

II. Method of Collection

The survey instrument/questionnaire (`Survey of International Air Travelers', a/k/a SIAT) continues to be in paper format and is self-administered by the passenger who volunteers to take the survey, either while in the departure gate area or on-board the flight. The flights are randomly selected, and this approach is described as `cluster sampling.' The majority (95%) of the passenger surveys are collected in U.S. airport departure gate areas. About 5% of all the passenger surveys are collected during flight (on-board) post departure (Canada-air has been included as part of the program in 2020). U.S. and foreign flag airlines that volunteer to participate in the Survey program enable the collection in U.S. departure gate areas and on-board flights.

NTTO is planning to change the format to electronic/digital or to an equally statistically valid process once compelling results have been attained. To date there have been five `e-Survey' tests: The first test was in partnership with Global Distribution Systems (GDS); the second and third tests were with major airlines in their respective boarding areas to leverage passenger's personal electronic devices (PED) and Wi-Fi capabilities in the airports and on-board certain flights; the fourth test used `tablet' devices to capture passenger responses in the airport gate area at a major gateway airport; and the fifth test again tested passenger PEDs (mobile phone) through use of a `QR' code since there have been improvements in Wi-Fi capabilities. The latter approach (QR/Mobile) was used to a limited degree during the 2020-2021 Pandemic period with negligible results due more to passenger reluctance to physical contact rather than adverse reaction to the collection method. Other tests are planned in the foreseeable future based on recommendations from the United States Travel and Tourism Advisory Board (TTAB).

III. Data

OMB Control Number: 0625-0227.

Form Number(s): None.

Type of Review: Regular submission, Extension of current information collection.

Affected Public: Individuals or households.

Estimated Number of Respondents: 300,000 due to mandate of the U.S. Travel Promotion Act of 2009 which requires `one percent' sample of overseas arrivals.

Estimated Time per Response: 15 minutes.

Estimated Total Annual Burden Hours: 75,000.

Estimated Total Annual Cost to Public: $0.00.

Respondent's Obligation: Voluntary.

Legal Authority: Public Law 111-145.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Request (ICR). Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-11081 Filed 5-20-24; 8:45 am]

BILLING CODE 3510-DR-P